DEPARTMENT OF DEFENSE

Department of the Army

Board of Visitors, United States Military Academy (USMA)

AGENCY: Department of the Army, DoD.

ACTION: Meeting cancellation notice.

SUMMARY: Under the provisions of the Federal Advisory Committee Act of 1972, the Government in the Sunshine Act of 1976 the Department of Defense announces that the following Federal advisory committee meeting will not take place.

DATES: Monday, October 16, 2023. Time: 9-11:30 a.m.

ADDRESSES:

Location: Haig Room, Jefferson Hall, 758 Cullum Road, West Point, NY.

Reason for Cancellation: Due to the uncertainty of the schedule of the House of Representatives in Washington, DC, the USMA Board of Visitors meeting originally scheduled for Monday, October 16, 2023, is cancelled.

FOR FURTHER INFORMATION CONTACT: The Committee's Designated Federal Officer or Point of Contact is Ms. Deadra Ghostlaw, (845) 938-6534, Deadra.Ghostlaw@westpoint.edu.

SUPPLEMENTARY INFORMATION: Due to circumstances beyond the control of the Department of Defense and the Designated Federal Officer, the United States Military Academy Board of Visitors is unable to provide public notification required by 41 CFR 102-3.150(a) concerning the cancellation of its October 16, 2023, meeting. Accordingly, the Advisory Committee Management Officer for the Department of Defense, pursuant to 41 CFR 102-3.150(b), waives the 15-calendar day notification requirement.

James W. Satterwhite Jr.,
Army Federal Register Liaison Officer.

[FR Doc. 2023-22615 Filed 10-12-23; 8:45 am]

BILLING CODE 3711-02-P